DEPARTMENT OF COMMERCE

National Oceanic and Atmospheric Administration

50 CFR Part 660

[Docket No. 000831250-0250-01; 032602D]

Fisheries off West Coast States and in the Western Pacific; Coastal Pelagic Species Fisheries; Reopening of Directed Fishery for Pacific Mackerel

AGENCY: National Marine Fisheries Service (NMFS), National Oceanic and Atmospheric Administration (NOAA), Commerce.

ACTION: Reopening of the directed fishery for Pacific mackerel.

SUMMARY: NMFS announces the reopening of the directed fishery for Pacific mackerel in the U.S. exclusive economic zone off the Pacific coast at 12 midnight local time (l.t.) on March 31, 2002. A significant portion of the Pacific mackerel harvest guideline remains unharvested; therefore, the incidental catch allowance that has been in effect since November 21, 2001, is removed, and any landing of Pacific mackerel may consist of 100 percent Pacific mackerel. This action is taken to help ensure that the harvest guideline is attained, but not exceeded.

DATES: Effective at 12 midnight l.t. March 31, 2002, through 12 midnight l.t. June 30, 2002.

ADDRESSES: The data used as the basis for this action is available for public inspection at the Office of the Acting Regional Administrator, Rodney R. McInnis, Southwest Region (Regional Administrator), NMFS, 501 W. Ocean Boulevard, Suite 4200, Long Beach, CA 90802-4213.

FOR FURTHER INFORMATION CONTACT: James J. Morgan, Southwest Region, NMFS, (562) 980-4036.

SUPPLEMENTARY INFORMATION: On July 25, 2001, NMFS announced a harvest guideline of 13,837 metric tons (mt) for Pacific mackerel for the fishing season July 1, 2001, through June 30, 2002 (66 FR 38571). A directed fishery of 6,000 mt was established, which, when attained, would be followed by an incidental catch allowance of 45 percent of Pacific mackerel in a landing of any coastal pelagic species. If a significant amount of the harvest guideline remained unused before the end of the fishing season on June 30, 2002, the directed fishery would be reopened. This approach was taken because of concern about the low harvest guideline’s potential negative effect on the harvest of Pacific sardine if the fishery for Pacific mackerel had to be closed. The two species occur together often and could present bycatch problems.

On November 8, 2001, 6,079 mt of Pacific mackerel had been landed; therefore, the 45 percent incidental rate was implemented on November 21, 2001 (66 FR 54166, November 27, 2001). On March 5, 2002, 7,252 mt of Pacific mackerel had been landed, with 6,585 mt of the harvest guideline remaining. To help ensure that the harvest guideline will be achieved, beginning on April 1, 2002, the 45 percent incidental landing restriction will be removed. If the harvest guideline of 13,837 mt is projected to be reached before June 30, 2002, the directed fishery will be closed and an appropriate incidental landing restriction imposed.

For the reasons stated here and in accordance with the FMP and its implementing regulations at 50 CFR 660.509, the directed fishery for Pacific mackerel will be reopened at 12 midnight l.t. on March 31, 2002, after which time any landing of Pacific mackerel may consist of 100 percent Pacific mackerel.

Classification

This action is required by 50 CFR 660.509 and is exempt from review under Executive Order 12866.

The Assistant Administrator for Fisheries, NOAA, finds good cause to waive the requirement to provide opportunity for prior notice and comment on this action pursuant to 5 U.S.C. 553(b)(B), as providing prior notice and opportunity for comment would be impracticable and unnecessary. It is impracticable because the fishery must be opened immediately in order to achieve the harvest guideline. It is unnecessary because this is a minor inseason action and the public had an opportunity to comment on the process that established the season openings and closings.

Since this action will give Pacific mackerel fishermen an opportunity to land the remaining harvest guideline, it relieves a restriction under 5 U.S.C. 553(d)(1).

Authority: 16 U.S.C. 1801 et seq.

Dated: April 1, 2002.
John H. Dunnigan,
Director, Office of Sustainable Fisheries, National Marine Fisheries Service.

[FR Doc. 02-8186 Filed 4-1-02; 3:28 pm]

BILLING CODE 3510-22-S